COMMODITY FUTURES TRADING COMMISSION

Agricultural Advisory Committee Meeting

AGENCY: Commodity Futures Trading Commission (“CFTC”).

ACTION: Notice of Meeting of Agricultural Advisory Committee.

SUMMARY: The CFTC's Agricultural Advisory Committee will hold a public meeting on August 5, 2010, from 9 a.m. to 1 p.m., at the Commission's Washington, DC headquarters. The agenda for the meeting includes (1) the ICE Futures US Cotton Contract, (2) wheat price convergence issues, and (3) price reporting issues in the cattle and hog markets. Members of the public may file written statements with the committee. If time permits, reasonable provision will be made for oral presentations by members of the public of up to five minutes.

DATES: The meeting will be held on August 5, 2010 from 9 a.m. to 1 p.m.. Members of the public who wish to make oral statements should inform Commissioner Michael V. Dunn, who chairs the committee, in writing at least three business days before the meeting.

ADDRESSES: The meeting will take place in the first floor hearing room at the Commission's headquarters, Three Lafayette Centre, 1155 21st Street, NW., Washington, DC 20581. Written statements and requests to make oral statements should be sent to the attention of Agricultural Advisory Committee, c/o Chairman Michael V. Dunn, Commodity Futures Trading Commission, Three Lafayette Centre, 1155 21st Street, NW., Washington, DC 20581.

FOR FURTHER INFORMATION CONTACT: Nicole McNair at (202) 418-5070.

SUPPLEMENTARY INFORMATION: The meeting will be webcast on the Commission's Web site, http://www.cftc.gov. Members of the public also can listen to the meeting by telephone. The public access call-in numbers will be announced at a later date.

Authority: 5 U.S.C. app. 2 § 10(a)(2) .

Dated: July 14, 2010.
By the Commission.
David A. Stawick,
Secretary of the Commission.

[FR Doc. 2010-17605 Filed 7-19-10; 8:45 a.m.]

BILLING CODE P